NATIONAL SCIENCE FOUNDATION

Notice of Availability for the Final Certification Criteria for Non-Federal Regional Information Coordination Entities (RICE) as Approved by the Interagency Ocean Observing Committee (IOOC)

AGENCY: National Science Foundation (NSF).

ACTION: Notice of availability.

SUMMARY: The National Science Foundation publishes this notice on behalf of the IOOC to announce the release of the final RICE certification criteria. These certification criteria establish eligibility for non-federal assets to be integrated into the U.S. Integrated Ocean Observation System (IOOS) and to ensure compliance with all applicable standards and protocols. These certification criteria were developed in response to a requirement in the Integrated Coastal Ocean Observation System Act of 2009 (33 U.S.C. 3601-3610) and are applicable to RICEs as defined in the Act, including Regional Associations.

ADDRESSES: The final certification criteria are available on the IOOC Web site: http://www.iooc.us. For the public unable to access the Internet, printed copies can be requested by contacting the IOOC Support Office at the address below. The public is encouraged to submit questions electronically to certification@iooc.us. If you are unable to access the Internet, questions may be submitted via fax or regular mail. Faxed questions should be sent to 202-332-8887 with Attn: IOOC Support Office. Questions may be submitted in writing to the Consortium for Ocean Leadership, Attention: IOOC Support Office, 1201 New York Avenue NW., 4th Floor, Washington, DC 20005

FOR FURTHER INFORMATION CONTACT: For further information about this notice, please contact the IOOC Support Office, telephone: 202-787-1622; Email: certification@iooc.us.

SUPPLEMENTARY INFORMATION: On 30 March 2009, President Barack Obama signed into law the Integrated Coastal and Ocean Observation System Act of 2009. Among the requirements in the Act is a directive to the IOOC to “develop contract certification standards and compliance procedures for all non-Federal assets, including regional information coordination entities, to establish eligibility for integration into the System and to ensure compliance with all applicable standards and protocols established by the Council, and ensure that regional observations are integrated into the System on a sustained basis.” The IOOC chartered two working groups consisting of subject matter experts on IOOS data partners and regional entities to draft recommended certification criteria. The recommended draft criteria were approved by the IOOC on 20 October 2011 and released for public input. After a sixty-day public comment period and adjudication of public input the IOOC drafted final certification criteria.

The IOOC is the federal interagency committee established to lead the interagency planning and coordination of ocean observing activities including IOOS. Eleven federal agencies participate in the IOOC, with NOAA serving as the lead federal agency for IOOS implementation and administration.

Dated: April 27, 2012.
Bob Houtman,
Co-Chair, Interagency Ocean Observation Committee.
Suzanne H. Plimpton,
Reports Clearance Officer, National Science Foundation.

[FR Doc. 2012-10560 Filed 5-1-12; 8:45 am]

BILLING CODE 7555-01-P